ENVIRONMENTAL PROTECTION AGENCY

[FRL-9322-9]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held July 13 and 14 at Mount Vernon Place, 900 Massachusetts Ave., NW., Washington, DC 20001. The CHPAC advises the Environmental Protection Agency on science, regulations, and other issues relating to children's environmental health.

DATES: The CHPAC will meet from 9 a.m. to 5:30 p.m. on July 13 and from 8:30 a.m. to Noon on July 14, 2011.

ADDRESSES: Mount Vernon Place, 900 Massachusetts Ave., NW., Washington, DC 20001.

FOR FURTHER INFORMATION CONTACT: Martha Berger, Office of Children's Health Protection, USEPA, MC 1107T, 1200 Pennsylvania Avenue, NW., Washington, DC 20460, (202) 564-2191, berger.martha@epa.gov.

SUPPLEMENTARY INFORMATION: The meetings of the CHPAC are open to the public. The final agenda will be posted at http://www.epa.gov/children.

Access: For information on access or services for individuals with disabilities, please contact Martha Berger at 202-564-2191 or berger.martha@epa.gov.

Dated: June 10, 2011.
Khesha Reed,
Acting Designated Federal Official.

[FR Doc. 2011-15748 Filed 6-22-11; 8:45 am]

BILLING CODE 6560-50-P